DEPARTMENT OF THE INTERIOR

Bureau of Land Management

[MT-926-04-1910-BJ-4360]

Montana: Filing of Plat of Survey

AGENCY: Bureau of Land Management, Montana State Office, Interior.

ACTION: Notice of filing of plat of survey.

SUMMARY: The Bureau of Land Management (BLM) will file the plat of survey of the lands described below in the BLM Montana State Office, Billings, Montana, (30) days from the date of publication in the Federal Register.

FOR FURTHER INFORMATION CONTACT: Steve Toth, Cadastral Surveyor, Branch of Cadastral Survey, Bureau of Land Management, 5001 Southgate Drive, P.O. Box 36800, Billings, Montana 59107-6800, telephone (406) 896-5121 or (406) 896-5009.

SUPPLEMENTARY INFORMATION: This survey was executed at the request of the U.S. Forest Service and was necessary to delineate Forest Service lands. The lands we surveyed are:

Principal Meridian, Montana

Tps. 3 S., Rs. 11 and 12 E.

The plat, in three sheets, representing the dependent resurvey of portions of the south boundary, the east boundary, and the subdivisional lines (including section 19, Township 3 South, Range 12 East), the adjusted original meanders of the former left and right banks of the South Fork of the Cheyenne River, through sections 24, 25, 35, and 36 (and sections 19 and 30, Township 3 South, Range 12 East), an island situated in the South Fork of the Cheyenne River, a certain partition line and the subdivision of sections 25, 26, and 35 and the survey of the medial line of an abandoned channel of the South Fork of the Cheyenne River, a certain partition line, a portion of a medial line of a relicted channel of the South Fork of the Cheyenne River, certain division of accretion lines, and portions of the meanders of the present left and right banks of the South Fork of the Cheyenne River, through sections 24, 25, 35, and 36 (and sections 19 and 30, Township 3 South, Range 12 East) in Townships 3 South, Ranges 11 and 12 East, Black Hills Meridian, South Dakota, was accepted March 31, 2004.

We will place copies of the plat, in 3 sheets, and related field notes we described in the open files. They will be available to the public as a matter of information.

If BLM receives a protest against this survey, as shown on this plat, in three sheets, prior to the date of the official filing, we will stay the filing pending our consideration of the protest.

We will not officially file this plat, in three sheets, until the day after we have accepted or dismissed all protests and they have become final, including decisions or appeals.

Dated: April 1, 2004.
Thomas M. Deiling,
Chief Cadastral Surveyor, Division of Resources.

[FR Doc. 04-7888 Filed 4-6-04; 8:45 am]

BILLING CODE 4310-$$-P